FEDERAL COMMUNICATIONS COMMISSION

47 CFR Part 54

[WC Docket Nos. 11-42, 09-197 and 10-90; Report No. 3046]

Petitions for Reconsideration and Clarification of Action in Rulemaking Proceeding

AGENCY: Federal Communications Commission.

ACTION: Petitions for reconsideration and clarification.

SUMMARY: Petitions for Reconsideration and Clarification (Petitions) have been filed in the Commission's rulemaking proceeding by Thomas C. Power on behalf of CTIA, Kevin G. Rupy on behalf of United States Telecom Association, Colin W. Scott on behalf of Pennsylvania Public Utility Commission, John J. Heitmann on behalf of Joint Lifeline ETC Petitioners, John T. Nakahata on behalf of General Communication, Inc., Michael R. Romano on behalf of NTCA & WTA, Mitchell F. Brecher on behalf of TracFone Wireless, Inc., and David Springe on behalf of NASUCA.

DATES: Oppositions to the Petitions must be filed on or before July 29, 2016. Replies to an opposition must be filed on or before August 8, 2016.

ADDRESSES: Federal Communications Commission, 445 12th Street SW., Washington, DC 20554.

FOR FURTHER INFORMATION CONTACT: Christian Hoefly, Wireless Telecommunications Bureau, (202) 418-3607, email: christian.hoefly@fcc.gov.

SUPPLEMENTARY INFORMATION: This is a summary of Commission's document, Report No. 3046, released June 30, 2016. The full text of the Petitions is available for viewing and copying at the FCC Reference Information Center, 445 12th Street SW., Room CY-A257, Washington, DC 20554 or may be accessed online via the Commission's Electronic Comment Filing System at http://apps.fcc.gov/ecfs/. The Commission will not send a copy of this Notice pursuant to the Congressional Review Act, 5 U.S.C. 801(a)(1)(A), because this Notice does not have an impact on any rules of particular applicability.

Subject: Lifeline and Link Up Reform and Modernization, Telecommunications Carriers Eligible for Universal Service Support, Connect America Fund, FCC 16-38, published at 81 FR 33026, May 24, 2016, in WC Docket Nos. 11-42, 09-197 and 10-90. This Notice is being published pursuant to 47 CFR 1.429(e). See also 47 CFR 1.4(b)(1) and 1.429(f), (g).

Number of Petitions Filed: 8.

Federal Communications Commission.
Marlene H. Dortch,
Secretary.

[FR Doc. 2016-16619 Filed 7-13-16; 8:45 am]

BILLING CODE 6712-01-P